DEPARTMENT OF TRANSPORTATION

Federal Aviation Administration

14 CFR Part 39

[Docket No. FAA-2010-0782; Directorate Identifier 2010-SW-053-AD; Amendment 39-16396; AD 2010-11-51]

RIN 2120-AA64

Airworthiness Directives; Eurocopter France (Eurocopter) Model AS350B, BA, B1, B2, C, D, and D1 Helicopters and Model AS355E, F, F1, F2, and N Helicopters

AGENCY: Federal Aviation Administration, DOT.

ACTION: Final rule; request for comments.

SUMMARY: This document publishes in the Federal Register an amendment adopting Airworthiness Directive (AD) 2010-11-51, which was sent previously to all known U.S. owners and operators of the specified Eurocopter model helicopters by individual letters. This AD requires visually inspecting the tail gearbox (TGB) control lever for a crack. If a crack is found, this AD also requires replacing the cracked TGB control lever with an airworthy TGB control lever. Optional terminating actions for the inspection requirements of this AD can be done by either replacing a TGB control lever with an airworthy TGB control lever that is marked with an “X” near the part number or stripping the rework area and dye-penetrant inspecting that area for a crack, and if no crack is found, reworking and marking the TGB control lever. If a crack is found, removing and replacing the cracked TGB control lever with an airworthy TGB control lever is required. This AD is prompted by several reports of cracking in a TGB control lever. The actions specified by this AD are intended to prevent failure of the TGB control lever, loss of tail rotor control, and subsequent loss of control of the helicopter.

DATES: Effective September 2, 2010, to all persons except those persons to whom it was made immediately effective by Emergency AD 2010-11-51, issued on May 11, 2010, which contained the requirements of this amendment.

The incorporation by reference of certain publications listed in the regulations is approved by the Director of the Federal Register as of September 2, 2010.

Comments for inclusion in the Rules Docket must be received on or before October 18, 2010.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, Texas 75053-4005, telephone (800) 232-0323, fax (972) 641-3710, or at http://www.Eurocopter.com.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: J.R. Holton, Jr., Aviation Safety Engineer, FAA, Rotorcraft Directorate, Safety Management Group, 2601 Meacham Blvd., Fort Worth, Texas 76137, telephone (817) 222-4964, fax (817) 222-5961.

SUPPLEMENTARY INFORMATION: On May 11, 2010, the FAA issued Emergency AD 2010-11-51 for the specified Eurocopter model helicopters, which requires visually inspecting the TGB control lever for a crack. If a crack is found, the AD requires replacing the cracked TGB control lever with an airworthy TGB control lever. Optional terminating actions for the inspection requirements of the AD can be done by either replacing a TGB control lever with an airworthy TGB control lever that is marked with an “X” near the part number or stripping the rework area and dye-penetrant inspecting that area for a crack, and if no crack is found, reworking and marking the TGB control lever. If a crack is found, the AD requires removing and replacing the cracked TGB control lever with an airworthy TGB control lever. The AD was prompted by several reports of cracking in a TGB control lever, including an accident involving a Eurocopter Model AS350B2 helicopter. An investigation revealed that a few surface anomalies may lead to a crack in the TGB control lever. This condition, if not corrected, could result in failure of the TGB control lever, loss of tail rotor control, and subsequent loss of control of the helicopter.

We have reviewed Eurocopter Emergency Alert Service Bulletin (EASB) No. 05.00.62, for Model AS350 helicopters and EASB No. 05.00.57 for Model AS355 helicopters. Both EASBs are Revision 1, dated April 23, 2010, and both describe procedures for a visual inspection of the TGB control lever for a crack that must be performed after the last flight of each day and prior to exceeding 10 flying hours for each inspection. The EASBs also describe a rework procedure for affected TGB control levers, which must be accomplished within 660 flying hours or no later than June 30, 2011, or before installing an affected TGB control lever on a helicopter. The one Eurocopter EASB contains four different service bulletin numbers (Nos. 05.00.62, 05.00.57, 05.00.38, and 05.00.35) applicable to four different Eurocopter model helicopters. EASB No. 05.00.38 relates to Eurocopter Model AS550 helicopters, and EASB No. 05.00.35 relates to Eurocopter Model AS555 helicopters. Eurocopter Model AS550 and AS555 helicopters are military models and are not type-certificated in the United States. This AD does not incorporate EASB No. 05.00.38 nor EASB No. 05.00.35.

The European Aviation Safety Agency (EASA), which is the Technical Agent for France, notified the FAA that an unsafe condition may exist on these helicopter models. EASA advises of a crack discovered in a TGB control lever, which could lead to a loss of tail rotor control and subsequent loss of control of the helicopter. EASA classified the service bulletin as mandatory and issued EASA Emergency AD No. 2010-0082-E, dated April 27, 2010, to ensure the continued airworthiness of these helicopters. The AD differs from EASA Emergency AD No. 2010-0082-E as follows:

• We include the Eurocopter Model AS350C and AS350D1 helicopters that may contain the affected TGB control lever;

• We use the term “hours time-in-service” rather than “flight hours”;

• We do not require replacing the TGB control lever within 660 hours TIS or 14 months, but instead offer optional terminating actions for the repetitive inspection requirements; and

• We do not require you to contact Eurocopter if a crack is found during any inspection.

These helicopter models are type certificated for operation in the United States under the provisions of 14 CFR 21.29 and the applicable bilateral agreement. Pursuant to the applicable bilateral agreement, EASA has kept the FAA informed of the situation described. The FAA has examined the findings of EASA, reviewed all available information, and determined that AD action is necessary for products of these type designs that are certificated for operation in the United States.

Since the unsafe condition described is likely to exist or develop on other Eurocopter model helicopters of these same type designs, the FAA issued Emergency AD 2010-11-51 to prevent failure of the TGB control lever, loss of tail rotor control, and subsequent loss of control of the helicopter. The AD requires within 10 hours time-in-service (TIS) and thereafter at intervals not to exceed 10 hours TIS, visually inspecting the TGB control lever for a crack. If a crack is found, the AD requires replacing the cracked TGB control lever with an airworthy TGB control lever before further flight. Optional terminating actions for the inspection requirements of the AD can be accomplished by either replacing a TGB control lever with an airworthy TGB control lever that is marked with an “X” near the part number or stripping the rework area and dye-penetrant inspecting that area for a crack, and if no crack is found, reworking and marking the TGB control lever before further flight. If a crack is found, removing and replacing the cracked TGB control lever with an airworthy TGB control lever is required before further flight. The actions must be done by following the specified portions of the service bulletin described previously.

The short compliance time involved is required because the previously described critical unsafe condition can adversely affect the controllability and structural integrity of the helicopter. Therefore, visually inspecting the TGB control lever for a crack is required within 10 hours TIS replacing any cracked TGB is required before further flight, and this AD must be issued immediately.

Since it was found that immediate corrective action was required, notice and opportunity for prior public comment thereon were impracticable and contrary to the public interest, and good cause existed to make the AD effective immediately by individual letters issued on May 11, 2010, to all known U.S. owners and operators of the specified Eurocopter model helicopters. These conditions still exist, and the AD is hereby published in the Federal Register as an amendment to 14 CFR 39.13 to make it effective to all persons.

The FAA estimates that this AD will affect 791 helicopters of U.S. registry. The initial and repetitive inspections for a crack in the TGB control lever will take a minimal amount of time. The average labor rate is $85 per work hour. Replacing a control lever, will take about 3 work hours, and the required parts will cost about $2,103 per helicopter. Based on these figures, we estimate the total cost of the AD on U.S. operators to be $1,865,178, assuming the control lever is replaced on the entire fleet. If you choose to dye-penetrant inspect, remove, rework, and replace the lever, it will take about 5 work hours, and the parts will cost about $20 per helicopter. Based on these figures, we estimate the total cost of the AD on U.S. operators to be $351,995, assuming no control levers are found cracked.

Comments Invited

This AD is a final rule that involves requirements that affect flight safety and was not preceded by notice and an opportunity for public comment; however, we invite you to submit any written data, views, or arguments regarding this AD. Send your comments to an address listed under ADDRESSES. Include “Docket No. FAA-2010-0782; Directorate Identifier 2010-SW-053-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-11-51 Eurocopter France: Amendment 39-16396. Docket No. FAA-2010-0782; Directorate Identifier 2010-SW-053-AD.

Applicability: Model AS350B, BA, B1, B2, C, D, and D1 helicopters and Model AS355E, F, F1, F2, and N helicopters, with a tail gearbox (TGB) control lever, part number (P/N) 350A33-1058-00, P/N 350A33-1058-01, P/N 350A33-1058-02, or P/N 350A33-1058-03, that is not marked with an “X” near the P/N, installed, certificated in any category.

Compliance: Required as indicated.

To detect cracking in a TGB control lever and prevent failure of the TGB control lever, loss of tail rotor control, and subsequent loss of control of the helicopter, accomplish the following:

(a) Within 10 hours time-in-service (TIS), unless accomplished previously, and thereafter at intervals not to exceed 10 hours TIS, visually inspect the affected TGB control lever for cracking in accordance with the Accomplishment Instructions, paragraph 2.B.1.a., in Eurocopter Emergency Alert Service Bulletin (EASB) No. 05.00.62, Revision 1, dated April 23, 2010, for Model AS350 helicopters or EASB No. 05.00.57, Revision 1, dated April 23, 2010, for Model AS355 helicopters.

(b) If a crack is found, before further flight, remove and replace the cracked TGB control lever with an airworthy TGB control lever in accordance with the Accomplishment Instructions, paragraph 2.B.2., in the EASB appropriate for your model helicopter.

(c) Either of the following options constitutes a terminating action for the inspection requirements of this AD:

(1) Replace a TGB control lever with an airworthy TGB control lever that is marked with an “X” near the P/N; or

(2) Strip the rework area “B” as shown in Figure 4 of each EASB and perform a dye-penetrant inspection on that area for a crack. If no crack is found, rework and mark the TGB control lever in accordance with paragraph 2.B.3.b. of the EASB appropriate for your model helicopter, except you are not required to contact Eurocopter France. If a crack is found, before further flight, remove and replace the cracked TGB control lever with an airworthy TGB control lever in accordance with the Accomplishment Instructions, paragraph 2.B.2., in the EASB.

Note 1: One Eurocopter EASB contains four different service bulletin numbers but only portions of 2 EASBs are being incorporated.

Note 2: Installing a reinforced TGB control lever, P/N 350A33-1524-00 or P/N 350A33-1526-00, that does not need to be marked with an “X” constitutes compliance with paragraph (c) of this AD.

(d) To request a different method of compliance or a different compliance time for this AD, follow the procedures in 14 CFR 39.19. Contact the Manager, Safety Management Group, FAA, ATTN: J.R. Holton, Jr., Aviation Safety Engineer, ASW-112, 2601 Meacham Blvd., Fort Worth, Texas 76137, telephone (817) 222-4964, fax (817) 222-5961, for information about previously approved alternative methods of compliance.

(e) Special flight permits may be issued in accordance with 14 CFR 21.197 and 21.199 to operate the helicopter to a location where the inspection requirements of paragraph (a) of this AD can be accomplished.

(f) The Joint Aircraft System/Component (JASC) Code is 6720: Tail Rotor Control System.

(g) Inspecting, replacing the control lever or removing, reworking, and replacing the control lever shall be done in accordance with the specified portions of Eurocopter Emergency Alert Service Bulletin (EASB) No. 05.00.62, Revision 1, dated April 23, 2010, for Model AS350 helicopters or EASB No. 05.00.57, Revision 1, dated April 23, 2010, for Model AS355 helicopters. The Director of the Federal Register approved this incorporation by reference in accordance with 5 U.S.C. 552(a) and 1 CFR part 51. Copies may be obtained from American Eurocopter Corporation, 2701 Forum Drive, Grand Prairie, Texas 75053-4005, telephone (800) 232-0323, fax (972) 641-3710, or at http://www.Eurocopter.com. Copies may be inspected at the FAA, Office of the Regional Counsel, Southwest Region, 2601 Meacham Blvd., Room 663, Fort Worth, Texas, or at the National Archives and Records Administration (NARA). For information on the availability of this material at NARA, call 202-741-6030, or go to: http://www.archives.gov/federal_register/code_of_federal_regulations/ibr_locations.html.

(h) This amendment becomes effective on September 2, 2010, to all persons except those persons to whom it was made immediately effective by Emergency AD 2010-11-51, issued May 11, 2010, which contained the requirements of this amendment.

Note 3: The subject of this AD is addressed in European Aviation Safety Agency (France) Emergency AD No. 2010-0082-E, dated April 27, 2010.

Issued in Fort Worth, Texas, on August 2, 2010.
Scott A. Horn,
Acting Manager, Rotorcraft Directorate, Aircraft Certification Service.

[FR Doc. 2010-19818 Filed 8-17-10; 8:45 am]

BILLING CODE 4910-13-P